NUCLEAR REGULATORY COMMISSION

Notice of Sunshine Act Meeting

Date: Weeks of December 11, 18, 25, 2006, January 1, 8, 15, 2007.

Place: Commissioners' Conference Room, 11555 Rockville Pike, Rockville, Maryland.

Status: Public and Closed.

Matters to Be Considered:

Week of December 11, 2006

Monday, December 11, 2006

1:30 p.m.

Briefing on Status of Decommissioning Activities (Public Meeting) (Contact: Keith McConnell, 301-415-7295).

This meeting will be Webcast live at the Web address— http://www.nrc.gov.

Tuesday, December 12, 2006

9:30 a.m.

Briefing on Threat Environment Assessment (Closed—Ex. 1).

1:30 p.m.

Discussion of Security Issues (Closed—Ex. 1 & 3).

Wednesday, December 13, 2006

9:30 a.m.

Briefing on Status of Equal Employment Opportunity (EEO) Programs (Public Meeting) (Contact: Barbara Williams, 301-415-7388).

This meeting will be Webcast live at the Web address— http://www.nrc.gov.

Thursday, December 14, 2006

9:25 a.m.

Affirmation Session (Public Meeting) (Tentative).

a. Hydro Resources, Inc. (Crownpoint, NM) Intervenors' Petition for Review of LBP-06-19 (Final Partial Initial Decision—NEPA Issues) (Tentative).

b. Entergy Nuclear Vermont Yankee, LLC, & Entergy Nuclear Operations, Inc. (Vermont Yankee Nuclear Power Station), LBP-06-20 (Sept. 22, 2006), reconsid'n denied (Oct. 30, 2006) (Tentative).

9:30 a.m.

Meeting with Advisory Committee on Nuclear Waste (ACNW) (Public Meeting) (Contact: John Larkins, 301-415-7360).

This meeting will be Webcast live at the Web address— http://www.nrc.gov.

Week of December 18, 2006—Tentative

There are no meetings scheduled for the Week of December 18, 2006.

Week of December 25, 2006—Tentative

There are no meetings scheduled for the Week of December 25, 2006.

Week of January 1, 2007—Tentative

There are no meetings scheduled for the Week of January 1, 2007.

Week of January 8, 2007—Tentative

Wednesday, January 10, 2007

9:30 a.m.

Briefing on Browns Ferry Unit 1 Restart (Public Meeting) (Contact: Catherine Haney, 301 415-1453).

This meeting will be Webcast live at the Web address— http://www.nrc.gov.

Thursday, January 11, 2007

1:30 p.m.

Periodic Briefing on New Reactor Issues (Public Meeting) (Contact: Donna Williams, 301 415-1322).

This meeting will be Webcast live at the Web address— http://www.nrc.gov.

Week of January 15, 2007—Tentative

There are no meetings scheduled for the Week of January 15, 2007.

* * * * *

The schedule for Commission meetings is subject to change on short notice. To verify the status of meetings call (recording)—(301) 415-1292. Contact person for more information: Michelle Schroll, (301) 415-1662.

* * * * *

Additional Information: Affirmation of Hydro Resources, Inc. (Crownpoint, NM) Intervenors' Petition for Review of LBP-06-19 (Final Partial Initial Decision—NEPA Issues) tentatively scheduled on Thursday, December 7, 2006 at 9:25 a.m. has been rescheduled tentatively on Thursday, December 14, 2006 at 9:25 a.m.

Discussion of Management Issues (Closed—Ex. 2) previously scheduled on Thursday, December 7, 2006 at 9:30 a.m. has been cancelled.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: December 7, 2006.
R. Michelle Schroll,
Office of the Secretary.

[FR Doc. 06-9653 Filed 12-8-06; 10:10 am]

BILLING CODE 7590-01-P